DEPARTMENT OF THE INTERIOR

National Park Service

General Management Plan, Final Environmental Impact Statement, Tonto National Monument, AR

AGENCY: National Park Service, Department of the Interior.

ACTION: Notice of availability of the Final Environmental Impact Statement for the General Management Plan, Tonto National Monument.

SUMMARY: Pursuant to the National Environmental Policy Act of 1969, 42 U.S.C. 4332(c), the National Park Service announces the availability of the Final Environmental Impact Statement for a General Management Plan for Tonto National Monument, Arizona.

DATES: The National Park Service will execute a Record of Decision (ROD) no sooner than 30 days following publication by the Environmental Protection Agency of the notice of availability of the Final Environmental Impact Statement.

ADDRESSES: Information will be available for the public at the following locations: (1) Tonto National Monument, HC02, Box 4602, Roosevelt, AZ 85545. (2) On the NPS Planning Web site at: http://planning.nps.gov/plans.cfm.

FOR FURTHER INFORMATION CONTACT: Superintendent, Tonto National Monument, HC02, Box 4602, Roosevelt, AZ 85545 928-467-2241(P).

Dated: January 15, 2003.
Karen P. Wade,
Director, Intermountain Region, National Park Service.

[FR Doc. 03-6204 Filed 3-13-03; 8:45 am]

BILLING CODE 4310-70-P